SURFACE TRANSPORTATION BOARD

[Docket No. FD 36069]

Kokomo Rail, LLC—Acquisition and Operation Exemption—Rail Line of Kokomo Rail Co., Inc.

Kokomo Rail, LLC (KR), a noncarrier, has filed a verified notice of exemption ¹ under 49 C.F.R 1150.31 to acquire, from Kokomo Rail Co., Inc. (KRC),² and to operate, approximately 12.55 miles of rail line between milepost 134.48 at or near Marion and milepost 147.07 at or near Amboy, in Howard and Grant Counties, Ind. (the Line).

¹ The verified notice was originally filed on October 27, 2016. On November 7, 2016, KR filed supplemental information, including the relevant mileposts, and noted that KRC was dissolved in 1999. Therefore, November 7, 2016, is the official filing date.

² KR is an affiliate of Kokomo Grain Co., Inc., as was KRC.

According to KR, KRC acquired the 12.55-mile line from CSX Transportation, Inc.³ KR states that KRC was voluntarily dissolved as a corporation, and that dissolution makes it necessary to transfer KRC's authority to own and operate the Line from KRC to KR.

³ See Kokomo Rail Co.—Acquis. & Operation Exemption—Line of CSX Transp. Between Marion & Amboy, Ind., FD 32231 et al. (ICC served Dec. 15, 1993).

KR states that the proposed transaction does not involve any interchange commitments. KR certifies that its projected annual revenues as a result of this transaction will not result in the creation of a Class I or Class II rail carrier and that its projected annual revenues do not exceed $5 million.

The transaction may be consummated on or after December 7, 2016, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions to stay must be filed no later than November 30, 2016 (at least seven days before the exemption becomes effective).

An original and 10 copies of all pleadings, referring to Docket No. FD 36069, must be filed with the Surface Transportation Board, 395 E Street SW., Washington, DC 20423-0001. In addition, a copy of each pleading must be served on applicant's representative, Thomas F. McFarland, Thomas F. McFarland, P.C., 208 South LaSalle Street, Suite 1666, Chicago, IL 60604.

According to KR, this action is categorically excluded from environmental review under 49 CFR 1105.6(c).

Board decisions and notices are available on our Web site at “WWW.STB.GOV.”

Decided: November 18, 2016.
By the Board, Scott M. Zimmerman, Acting Director, Office of Proceedings.
Rena Laws-Byrum,
Clearance Clerk.

[FR Doc. 2016-28222 Filed 11-22-16; 8:45 am]

BILLING CODE 4915-01-P